DEPARTMENT OF TRANSPORTATION

Office of the Secretary

Aviation Proceedings, Agreements Filed the Week Ending September 24, 2004

The following Agreements were filed with the Department of Transportation under the provisions of 49 U.S.C. 412 and 414. Answers may be filed within 21 days after the filing of the application.

Docket Number: OST-2004-19162.

Date Filed: September 20, 2004.

Parties: Members of the International Air Transport Association.

Subject: PTC12 NMS-AFR 0209/PTC23 AFR-TC3 0244, dated 21 September 2004, Mail Vote 403—Resolution 010v—Special Passenger, Amending Resolution to/from Libya, Intended effective date: 1 November 2004.

Docket Number: OST-2004-19163.

Date Filed: September 20, 2004.

Parties: Members of the International Air Transport Association

Subject: PTC23 AFR-TC3 0238, dated 17 September 2004, Africa-South Asian Subcontinent Expedited Resolution 002d, for intended effect 1 November 2004 r1-r6; PTC23 AFR-TC3 0246, dated 21 September 2004, Africa-South Asian subcontinent Technical Correction to Memorandum PTC23 AFR-TC3 0238 Expedited Resolution 002d, for intended effect 1 November 2004; PTC23 AFR-TC3 0239, dated 17 September 17 2004, Africa-South Asian subcontinent Expedited Resolution 002c, for intended effect 15 January 2005 r7; PTC23 AFR-TC3 0240, dated 17 September 2004, Africa-South west Pacific Expedited Resolution 002o, for intended effective date 1 November 2004 r8; PTC23 AFR-TC3 0241, dated 17 September 2004; Africa-South West Pacific Expedited Resolution 002ee, for intended effective date 15 January 2004 r9; Intended effective date: 1 November 2004, 15 January 2005.

Docket Number: OST-2004-19164.

Date Filed: September 20, 2004.

Parties: Members of the International Air Transport Association.

Subject: PTC23 ME-TC3 0209, dated 17 September 2004, Middle East-South Asian Subcontinent Expedited Resolution 002z, for intended effective date 15 January 2005 r1; PTC23 ME-TC3 0210, dated 17 September 2004, Middle East-Japan, Korea Expedited Resolution 002qq, for intended effective date 15 January 2005 r2; PTC23 ME-TC3 0211, dated 17 September 2004, Middle East-Japan, Korea Expedited Resolution 085b, for intended effective date 31 March 2005 r3; Intended effective date: 15 January 2005, 31 March 2005.

Andrea M. Jenkins,
Program Manager, Docket Operations, Federal Register Liaison.

[FR Doc. 04-22502 Filed 10-5-04; 8:45 am]

BILLING CODE 4910-62-P